DEPARTMENT OF THE TREASURY

Submission for OMB Review; Comment Request

August 20, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before September 24, 2007 to be assured of consideration.

Financial Management Service (FMS)

OMB Number: 1510-0059.

Type of Review: Extension.

Title: Authorization Agreement for Preauthorized Payment.

Form: SF-5510.

Description: Preauthorized payment is used by remitters (individuals and corporations) to authorize electronic funds transfers from the bank accounts maintained at financial institutions for government agencies to collect monies.

Respondents: Individuals or Households.

Estimated Total Burden Hours: 25,000 hours.

Clearance Officer: Jiovannah Diggs, (202) 874-7662, Financial Management Service, Room 135, 3700 East-West Highway, Hyattsville, MD 20782.

OMB Reviewer: Alexander T. Hunt, (202) 395-7316, Office of Management and Budget, Room 10235, New Executive Office Building, Washington, DC 20503.

Robert B. Dahl,
Treasury PRA Clearance Officer.

[FR Doc. E7-16799 Filed 8-23-07; 8:45 am]

BILLING CODE 4810-35-P